DEPARTMENT OF THE INTERIOR

National Park Service

[NPS-WASO-NAGPRA-19738; PPWOCRADN0-PCU00RP14.R50000]

Notice of Inventory Completion: Ohio History Connection, Columbus, OH

AGENCY: National Park Service, Interior.

ACTION: Notice.

SUMMARY: The Ohio History Connection has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Ohio History Connection. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Ohio History Connection at the address in this notice by January 7, 2016.

ADDRESSES: Bradley Lepper, Ohio History Connection, 800 East 17th Avenue, Columbus, OH 43211, telephone (614) 298-2064, email blepper@ohiohistory.org.

SUPPLEMENTARY INFORMATION: Notice is here given in accordance with the Native American Graves Protection and Repatriation Act (NAGPRA), 25 U.S.C. 3003, of the completion of an inventory of human remains and associated funerary objects under the control of the Ohio History Connection, Columbus, OH. The human remains and associated funerary objects were removed from Schoenbrunn, Tuscarawas County, OH and Gnadenhutten, Tuscarawas County, OH.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Ohio History Connection professional staff in consultation with representatives of the Delaware Tribe of Indians, Oklahoma and the Delaware Nation, Oklahoma.

History and Description of the Remains

In the 1920s, human remains representing, at minimum, two individuals were removed from a burial site in Schoenbrunn, in Tuscarawas County, OH. In 1927, William C. Mills investigated the cemetery, during which it is believed the human remains of a child (A4213/2) and an adult (A4213/3) were encountered. No known individuals were identified. No associated funerary objects are present.

On an unknown date, human remains representing, at minimum, three adult individuals were removed from a burial site in Schoenbrunn, in Tuscarawas County, OH. The human remains are a collection of modified (drilled) human phalanges from a “mound coffin” (A4213/1). As the remains were modified, they were originally reported as objects. Initially, the human remains were mistakenly reported as having been removed from a different site (A4487); their provenance was correctly identified in 2013. No known individuals were identified. As Schoenbrunn was founded by the Moravian Church in 1772-1777, as a mission to the Delaware Indians, these human remains are affiliated to the Delaware Tribe of Indians, Oklahoma. No associated funerary objects are present.

Either in the 1920s or the 1960s, human remains representing, at minimum, four individuals were probably removed from Gnadenhutten, in Tuscarawas County, OH. Although the human remains lack documentation, William C. Mills was in the area of Gnadenhutten during his excavations at Schoenbrunn, and these human remains were found mixed with the Schoenbrunn human remains. It is probable that the material comes from this time period. Alternatively, the human remains could have been excavated in the 1960's prior to the property being given to the Village of Gnadenhutten. The remains represent three adults (A4578/1, 3 and 5) and one child (A4578/1.01). No known individuals were identified. The 13 associated funerary objects are one small mammal mandible fragment (A4578/2, found with A4578/1), nine miscellaneous animal bone fragments (A4578/4 found with A4578/3) and three pottery sherds (A4578/6 found with A4578/5). As Gnadenhutten has strong historic ties to the Delaware Tribe, these human remains and associated funerary objects are affiliated with the Delaware Tribe of Indians, Oklahoma.

Determinations Made by the Ohio History Connection

Officials of the Ohio History Connection have determined that:

• Pursuant to 25 U.S.C. 3001(9), the human remains described in this notice represent the physical remains of nine individuals of Native American ancestry.

• Pursuant to 25 U.S.C. 3001(3)(A), the thirteen objects described in this notice are reasonably believed to have been placed with or near individual human remains at the time of death or later as part of the death rite or ceremony.

• Pursuant to 25 U.S.C. 3001(2), there is a relationship of shared group identity that can be reasonably traced between the Native American human remains and associated funerary objects and the Delaware Tribe, Oklahoma.

Additional Requestors and Disposition

Lineal descendants or representatives of any Indian tribe or Native Hawaiian organization not identified in this notice that wish to request transfer of control of these human remains and associated funerary objects should submit a written request with information in support of the request to Bradley Lepper, Ohio History Connection, 800 East 17th Avenue, Columbus, OH 43211, telephone (614) 298-2064, email blepper@ohiohistory.org, by January 7, 2016. After that date, if no additional requestors have come forward, transfer of control of the human remains and associated funerary objects to the Delaware Tribe of Indians, Oklahoma may proceed.

The Ohio History Connection is responsible for notifying the Delaware Tribe of Indians, Oklahoma, and the Delaware Nation, Oklahoma, that this notice has been published.

Dated: November 4, 2015.
Melanie O'Brien,
Manager, National NAGPRA Program.

[FR Doc. 2015-30903 Filed 12-7-15; 8:45 am]

BILLING CODE 4312-50-P